DEPARTMENT OF DEFENSE

Defense Acquisition Regulations System

48 CFR Parts 215, 235, and 237

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: April 12, 2013.

FOR FURTHER INFORMATION CONTACT: Mr. Manuel Quinones, Defense Acquisition Regulations System, OUSD (AT&L) DPAP (DARS), Room 3B855, 3060 Defense Pentagon, Washington, DC 20301-3060. Telephone 571-372-6088; facsimile 571-372-6094.

SUPPLEMENTARY INFORMATION: This final rule amends the DFARS as follows:

1. Revises 215.406-3 to call attention to procedures in the PGI for uploading business clearance documentation in the Contract Business Analysis Repository (CBAR).

2. Corrects typographical error at 235.070-2.

3. Adds 237.102-79 to call attention to guidance at PGI 237.102-79 on private sector notifications in support of in-sourcing actions.

List of Subjects in 48 CFR Parts 215, 235, and 237

Government procurement.

Manuel Quinones,
Editor, Defense Acquisition Regulations System.

Therefore, 48 CFR parts 215, 235, and 237 are amended as follows:

1. The authority citation for 48 CFR parts 215 and 237 continues to read as follows:

Authority: 41 U.S.C. 1303 and 48 CFR chapter 1.

PART 215—CONTRACTING BY NEGOTIATION

2. Section 215.406-3 is revised to read as follows:

215.406-3 Documenting the negotiation.

Follow the procedures at PGI 215.406-3 for documenting the negotiation and uploading sole source business clearance documentation into the Contract Business Analysis Repository.

PART 235—RESEARCH AND DEVELOPMENT CONTRACTING

3. The authority citation for 48 CFR part 235 is revised to read as follows:

Authority: 41 U.S.C. 1303 and 48 CFR chapter 1.

235.070-2 [Amended]

4. Section 235.070-2 is amended by removing the words “FAR Subpart 50.4” and adding the words “FAR 50.104-3” in their place.

PART 237—SERVICE CONTRACTING

Subpart 237.1 [Amended]

5. Subpart 237.1 is amended by adding section 237.102-79 to read as follows:

237.102-79 Private sector notification requirements in support of in-sourcing actions.

Contracting officers shall follow the procedures at PGI 237.102-79 for notifying affected incumbent contractors of Government in-sourcing actions, in accordance with 10 U.S.C. 2463.

[FR Doc. 2013-08686 Filed 4-11-13; 8:45 am]

BILLING CODE 5001-06-P